FEDERAL COMMUNICATIONS COMMISSION

47 CFR Part 74

[MB Docket No. 18-119; DA 18-669]

FM Translator Interference: Media Bureau Grants Extension of Time To File Comments and Reply Comments

AGENCY: Federal Communications Commission.

ACTION: Proposed rule; extension of comment period.

SUMMARY: This document announces that the Media Bureau of the Federal Communications Commission granted the Motion for Extension of Time to extend the comment and reply comment deadlines, filed by Beasley Media Group, LLC; Educational Media Foundation; Gradick Communications, LLC; iHeart Communications, Inc.; Neuhoff Corp.; Radio One Licenses, LLC/Urban One, Inc.; and Withers Broadcasting Companies (Petitioners), in MB Docket 18-119.

DATES: Comments may be filed on or before August 6, 2018, and reply comments may be filed on or before September 5, 2018.

ADDRESSES: You may submit comments, pursuant to Sections 1.415 and 1.419 of the Commission's rules, 47 CFR 1.415, 1.419, by any of the following methods:

• Electronic Filers: Comments may be filed electronically using the internet by accessing the ECFS: http://apps.fcc.gov/ecfs/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service first-class, Express, and Priority mail must be addressed to 445 12th Street SW, Washington DC 20554.

• People with Disabilities: Contact the FCC to request reasonable accommodations (accessible format documents, sign language interpreters, CART, etc.) by email: FCC504@fcc.gov or phone: (202) 418-0530 or TTY: (202) 418-0432. For detailed instructions on submitting comments and additional information on the rulemaking process, see the Commission's Notice of Proposed Rulemaking, MB Docket No. 18-119, FCC 18-60, adopted May 10, 2018, and released May 10, 2018.

FOR FURTHER INFORMATION CONTACT: Albert Shuldiner, Chief, Audio Division, Media Bureau, (202) 418-2721; James Bradshaw, Deputy Division Chief, Media Bureau (202) 418-2739. Direct press inquiries to Janice Wise at (202) 418-8165.

SUPPLEMENTARY INFORMATION: This is a summary of the Media Bureau's Order, DA 18-669, adopted June 27, 2018, and released June 27, 2018. Petitioners filed a Motion for Extension of Time seeking to extend the deadlines to file comments and reply comments to August 6, 2018, and September 5, 2018, respectively, in FM Translator Interference, Notice of Proposed Rulemaking, MB Docket No. 18-119, FCC 18-60 (rel. May 10, 2018), 83 FR 26229, June 6, 2018. For good cause shown, the Media Bureau, pursuant to delegated authority, granted the request. Comments were originally due July 6, 2018, and reply comments on August 6, 2018. Grant of the request makes comments due on August 6, 2018, and reply comments due on September 5, 2018. This proceeding is treated as “permit but disclose” for purposes of the Commission's ex parte rules. See generally 47 CFR 1.200-1.216. As a result of the permit but disclose status of this proceeding, ex parte presentations will be governed by the procedures set forth in Section 1.1206 of the Commission's rules applicable to non-restricted proceedings.

The full text of this document is available electronically via the FCC's Electronic Document Management System (EDOCS) website at http://https://www.fcc.gov/edocs or via the FCC's Electronic Comment Filing System (ECFS) website at http://https://www.fcc.gov/ecfs/. (Documents will be available electronically in ASCII, Microsoft Word, and/or Adobe Acrobat.) This document is also available for public inspection and copying during regular business hours in the FCC Reference Information Center, which is located in Room CY-A257 at FCC Headquarters, 445 12th Street SW, Washington, DC 20554. The Reference Information Center is open to the public Monday through Thursday from 8:00 a.m. to 4:30 p.m. and Friday from 8:00 a.m. to 11:30 a.m. The complete text may be purchased from the Commission's copy contractor, 445 12th Street SW, Room CY-B402, Washington, DC 20554. Alternative formats are available for people with disabilities (braille, large print, electronic files, audio format), by sending an email to fcc504@fcc.gov or calling the Commission's Consumer and Governmental Affairs Bureau at (202) 418-0530 (voice), (202) 418-0432 (TTY).

Federal Communications Commission.
James Bradshaw,
Deputy Chief, Audio Division, Media Bureau.

[FR Doc. 2018-15275 Filed 7-18-18; 8:45 am]

BILLING CODE 6712-01-P